FEDERAL COMMUNICATIONS COMMISSION

Notice of Public Information Collection(s) Being Reviewed by the Federal Communications Commission, Comments Requested

February 16, 2005.

SUMMARY: The Federal Communications Commission, as part of its continuing effort to reduce paperwork burden invites the general public and other Federal agencies to take this opportunity to comment on the following information collection(s), as required by the Paperwork Reduction Act (PRA) of 1995, Pub. L. 104-13. An agency may not conduct or sponsor a collection of information unless it displays a currently valid control number. No person shall be subject to any penalty for failing to comply with a collection of information subject to the Paperwork Reduction Act that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 25, 2005. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-1080.

Title: Improving Public Safety Communications in the 800 MHz Band.

Form No.: N/A.

Type of Review: Extension of a currently approved collection.

Respondents: Business or other for-profit, not-for-profit institutions, and state, local or tribal government.

Number of Respondents: 2,500.

Estimated Time Per Response: 3-10 hours.

Frequency of Response: On occasion and quarterly reporting requirements and third party disclosure requirement.

Total Annual Burden: 27,162 hours.

Total Annual Cost: N/A.

Privacy Act Impact Assessment: N/A.

Needs and Uses: The Commission has taken actions to immediately stem increasing instances of interference to 800 MHz public safety communications systems as well as address the underlying cause of 800 MHz interference. The PRA burden involves the exchange of information to avoid interference and to resolve interference complaints. The PRA burden also involves the exchange of information to facilitate incumbent relocation. This information exchange is necessary to effectuate band reconfiguration, i.e., to spectrally separate incompatible technologies, which is the underlying cause of interference to public safety. Overall, the PRA burden is necessary to enable the Commission to determine the parties are acting in good faith in resolving the 800 MHz public safety interference problem and to keep the 800 MHz transition moving efficiently.

The Commission requested emergency processing of this information collection on January 14, 2005. OMB approval was granted on January 27, 2005. The Commission is now seeking extension (no change) of these requirements in order to obtain the full three-year clearance.

Federal Communications Commission.
Marlene H. Dortch,
Secretary.

[FR Doc. 05-3515 Filed 2-23-05; 8:45 am]

BILLING CODE 6712-01-P